ENVIRONMENTAL PROTECTION AGENCY

[FRL-10020-31-ORD]

Ambient Air Monitoring Reference and Equivalent Methods; Designation of One New Reference Method and One New Equivalent Method

AGENCY: Environmental Protection Agency (EPA).

ACTION: Notice of the designation of one new reference method and one new equivalent method for monitoring ambient air quality.

SUMMARY: Notice is hereby given that the Environmental Protection Agency (EPA) has designated one new reference method for measuring concentrations of sulfur dioxide (SO2), and one new equivalent method for measuring concentrations of particulate matter (PM10) in ambient air.

FOR FURTHER INFORMATION CONTACT: Robert Vanderpool, Air Methods and Characterization Division (MD-D205-03), Center for Environmental Measurements and Modeling, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQS) as set forth in 40 CFR part 50. Monitoring methods that are determined to meet specific requirements for adequacy are designated by the EPA as either reference or equivalent methods (as applicable), thereby permitting their use under 40 CFR part 58 by States and other agencies for determining compliance with the NAAQS. A list of all reference or equivalent methods that have been previously designated by EPA may be found at http://www.epa.gov/ttn/amtic/criteria.html.

The EPA hereby announces the designation of one new reference method for measuring concentrations of SO2 in ambient air and one new equivalent method for measuring concentrations of PM10 in ambient air. These designations are made under the provisions of 40 CFR part 53, as amended on October 26, 2015 (80 FR 65291-65468).

The new reference method for SO2 is an automated method (analyzer) utilizing the measurement principle based on UV fluorescence. This newly designated reference method is identified as follows:

RFSA-1120-257, “KENTEK Inc. Model MEZUS 110 SO2 Analyzer,” UV fluorescence analyzer operated in a range of 0-0.5 ppm, with 0.5 µm, 47 mm diameter Teflon® filter installed, operated at temperatures between 20° C and 30° C, at a nominal sampling flow rate of 800 cc/min, using a 5 minute averaging time, with either 105VAC-125VAC or 200VAC-240VAC input power options installed, 280-watt power consumption, equipped with 7 inch LCD touch screen display, and operated according to the KENTEK Inc. Model Mezus 110 Sulfur Dioxide Analyzer User's Instruction Manual.

This application for a reference method determination for this SO2 method was received by the Office of Research and Development on July 21, 2020. This analyzer is commercially available from the applicant, KENTEK Inc., Hanshin S. Meca Room #526, 65 Techno 3-ro, Yuseong-gu, Daejeon, Republic of Korea, 34016.

The new equivalent method for PM10 is an automated method (monitor) utilizing the measurement principle based on Beta Attenuation or β-ray monitoring. This newly designated equivalent method is identified as follows:

EQPM-0121-258, “Focused Photonics Inc. BPM-200 PM10 Monitor,” β-ray monitor operated in the following concentration ranges: 0-1 mg/m³, 0-2 mg/m³, 0-5 mg/m³, or 0-10 mg/m³, analyzing ambient conditions temperatures between −30° C to 50° C, while the monitor can operate in a conditioned space between 0° C to 50° C. The unit is operated for 24-hour average measurements, with the FPI P/N 6150138000X EPA PM10 inlet, glass fiber filter tape with axial inner diameter of 40mm (GCY00003900), the 220VAC 50Hz power supply, the FPI P/N 6150139000X Atmospheric Temperature Unit, the 6100050000X Air heating unit for maintaining moisture at about 35% and no ΔT control, the FPI P/N GCX00013700 filter, the FPI P/N 6102182000X internal calibration device, 290508D00A Main Board, and 2910510B00X Interface board display. Instrument must be operated in accordance with the appropriate instrument manual and with software (firmware) version AQMSPlus.P005.V01A.US001.

This application for an equivalent method determination for this PM10 method was received by the Office of Research and Development on October 13, 2020. This monitor is commercially available from the applicant, Focused Photonics Inc. (FPI), 760 Bin`an Road, Binjiang District, Hangzhou, Zhejiang, China.

Representative test analyzers have been tested in accordance with the applicable test procedures specified in 40 CFR part 53, as amended on October 26, 2015. After reviewing the results of those tests and other information submitted by the applicants, EPA has determined, in accordance with 40 CFR part 53, that these methods should be designated as a reference or equivalent method.

As a designated reference or equivalent method, these methods are acceptable for use by states and other air monitoring agencies under the requirements of 40 CFR part 58, Ambient Air Quality Surveillance. For such purposes, each method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under Section 2.8 (Modifications of Methods by Users) of Appendix C to 40 CFR part 58.

Consistent or repeated noncompliance with any of these conditions should be reported to: Director, Air Methods and Characterization Division (MD-D205-03), Center for Environmental Measurements and Modeling, U.S. Environmental Protection Agency, Research Triangle Park, North Carolina 27711.

Designation of these reference and equivalent methods is intended to assist the States in establishing and operating their air quality surveillance systems under 40 CFR part 58. Questions concerning the commercial availability or technical aspects of the methods should be directed to the applicants.

Timothy Watkins,
Director, Center for Environmental Measurements and Modeling.

[FR Doc. 2021-04497 Filed 3-3-21; 8:45 am]

BILLING CODE P